DEPARTMENT OF ENERGY

Federal Energy Regulatory Commission

[Docket No. EL18-9-000]

Xcel Energy Services Inc. v. Southwest Power Pool, Inc.; Notice of Complaint

Take notice that on October 10, 2017, Xcel Energy Services Inc. (Complainant), on behalf of its public utility affiliate Southwestern Public Service Company (SPS), filed a formal complaint against Southwest Power Pool, Inc. (SPP or Respondent) pursuant to sections 206 and 306 of the Federal Power Act (FPA), 16 U.S.C. 824(e) and 825(e), and Rule 206 of the Rules of Practice and Procedure of the Federal Energy Regulatory Commission (Commission), 18 CFR 385.206 (2017), alleging that SPP has violated its Tariff by assessing Attachment Z2 credit payment obligations to SPS in a manner that is inconsistent with the SPP Tariff, violates the filed rate doctrine, is inconsistent with SPS's network transmission service agreements with SPP, and is otherwise unjust, unreasonable, all as more fully explained in the complaint.

Complainants certify that copies of the complaint were served on the contact for Respondent, as listed on the Commission's list of Corporate Officials.

Any person desiring to intervene or to protest this filing must file in accordance with Rules 211 and 214 of the Commission's Rules of Practice and Procedure. 18 CFR 385.211, 385.214 (2017). Protests will be considered by the Commission in determining the appropriate action to be taken, but will not serve to make protestants parties to the proceeding. Any person wishing to become a party must file a notice of intervention or motion to intervene, as appropriate. The Respondent's answer and all interventions, or protests, must be filed on or before the comment date. The Respondent's answer, motions to intervene, and protests must be served on the Complainants.

The Commission encourages electronic submission of protests and interventions in lieu of paper using the eFiling link at http://www.ferc.gov. Persons unable to file electronically should submit an original and 14 copies of the protest or intervention to the Federal Energy Regulatory Commission, 888 First Street NE., Washington, DC 20426.

This filing is accessible online at http://www.ferc.gov, using the eLibrary link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 30, 2017.

Dated: October 11, 2017.
Kimberly D. Bose,
Secretary.

[FR Doc. 2017-22470 Filed 10-16-17; 8:45 am]

BILLING CODE 6717-01-P